DEPARTMENT OF THE INTERIOR

National Park Service

[NPS-WASO-NAGPRA-NPS0023846; PPWOCRADN0-PCU00RP14.R50000]

Notice of Inventory Completion: U.S. Department of the Interior, Bureau of Reclamation, Mid-Pacific Region, Sacramento, CA

AGENCY: National Park Service, Interior.

ACTION: Notice.

SUMMARY: The U.S. Department of the Interior, Bureau of Reclamation (Reclamation), Mid-Pacific Regional Office, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains should submit a written request to Reclamation, Mid-Pacific Regional Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the U.S. Department of the Interior, Bureau of Reclamation, Mid-Pacific Regional Office, at the address in this notice by October 23, 2017.

ADDRESSES: Melanie Ryan, NAGPRA Specialist/Physical Anthropologist, Bureau of Reclamation, Mid-Pacific Regional Office, MP-153, 2800 Cottage Way, Sacramento, CA 95825, telephone (916) 978-5526, email emryan@usbr.gov.

SUPPLEMENTARY INFORMATION: Notice is here given in accordance with the Native American Graves Protection and Repatriation Act (NAGPRA), 25 U.S.C. 3003, of the completion of an inventory of human remains and associated funerary objects under the control of Reclamation, Mid-Pacific Regional Office, Sacramento, CA. The human remains and associated funerary objects were removed from Calaveras and Tuolumne Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Reclamation, Mid-Pacific Regional Office, professional staff in consultation with representatives of the Bishop Paiute Tribe (previously listed as the Paiute-Shoshone Indians of the Bishop Community of the Bishop Colony, California) and the Tuolumne Band of Me-Wuk Indians of the Tuolumne Rancheria of California. The following Indian Tribes were invited to consult but did not participate in consultation: The Buena Vista Rancheria of Me-Wuk Indians; California Valley Miwok Tribe; Chicken Ranch Rancheria of Me-Wuk Indians; Ione Band of Miwok Indians; Jackson Rancheria of Me-Wuk Indians; Shingle Springs Band of Miwok Indians; and Wilton Rancheria (hereafter referred to as “The Invited and Consulted Tribes”)

History and Description of the Remains

In August of 1975, human remains representing, at minimum, one individual, were inadvertently removed from the Texas Charley Gulch site (CA-CAL-0338, original site number 4-CAL-S-286) in Calaveras County, CA. The site was first excavated in 1975 by San Francisco State University under the direction of Dr. Michael Moratto. Three burials were encountered in two of the units, but the human remains were left in situ. In 2013, SFSU notified Reclamation of the existence of an isolated left mandibular second premolar in the CA-CAL-0338 collection. Physical custody was transferred to Reclamation, Mid-Pacific, on March 31, 2013. Subsequent reanalysis of the site CA-CAL-0338 faunal assemblage by Reclamation, Mid-Pacific, professional staff resulted in the identification of an additional 97 pieces of human bone. The fragmentary nature of the remains precluded determination of age or sex. No known individual was identified. The five associated funerary objects include four Olivella shell beads and one Haliotis disc. A sixth grave item, a bone awl fragment was not among the items transferred by San Francisco State University to Reclamation, Mid-Pacific, in 2013.

Age estimates of CA-CAL-0338 are based on temporally-diagnostic artifacts and radiocarbon dates. Uncalibrated ¹⁴C dates of 320 ±80 BP (Unit I-100-N, I-9040) and 405 ±80 BP (Unit G-100-S, I-9039) suggest a Late Horizon occupation for all three burials. However, the carbon samples were not directly associated with the remains; rather they were extracted from undifferentiated midden deposits in the general vicinity of the burials. The single Type M1a Olivella bead found in association with Burial 3 suggests that this individual was interred sometime between the beginning of the Middle Period (circa 200 B.C.) and the end of Phase 1 of the Late Period (circa A.D. 1500). The Type G2b Olivella beads, while not definitively associated with Burials 2 and 5, are temporally diagnostic for the timespan between the Early/Middle Period Transition (circa 500-200 B.C.) and the end of the Middle Period (circa A.D. 1000). A single H3b Haliotis flat disc is consistent with an occupation sometime prior to circa A.D. 500.

As the foregoing makes clear, there is a fundamental disagreement between the radiometric data and the index artifacts for two of the three burials. The radiocarbon data suggests that all three burials date to circa A.D. 1500, which would indicate a clear relationship with the modern-day Me-Wuk. In the case of Burial 3, this estimate is supported by the Type M1a bead, which overlaps with the radiocarbon date at the extreme end of its temporal distribution. However, the shell beads found with Burials 2 and 5 indicate a much earlier occupation, perhaps as early as 200 B.C. Overlap in the temporal ranges of Olivella G2b beads and Haliotis H3b flat disc suggest that Burials 2 and 5 were interred no later than A.D. 500.

Contextual ambiguity for both the radiometric and index artifacts are not resolvable, rendering these data largely equivocal. For Burial 3, the sum totality of the evidence is unambiguous and clearly indicates a cultural affiliation with the present-day Me-Wuk. In the absence of any quantitative method for determining interment dates for Burials 2 and 5, the existence of traditional tribal lands of the present-day Me-Wuk in the same geographical area is taken as prima facie evidence of continuous occupation of the site from antiquity into the ethnographic present.

In August of 1972, human remains representing, at minimum, one individual, were removed from site CA-TUO-0313 in Tuolumne County, CA. Human remains consisting of one right patella, one proximal hand phalanx, one middle hand phalanx, and one cervical vertebra were encountered by the excavators. In 2016, re-examination of the faunal assemblage by Reclamation professional staff identified additional human remains consisting of one ischium fragment (side indeterminate), one left pubis fragment, and four pieces of unidentified human bone. The human remains represent one adult of indeterminate sex. No known individual was identified. No associated funerary objects are present. The vertical distribution of human remains within a single unit suggests the disturbed interment of a single individual. The preponderance of the available evidence indicates that the human remains are culturally affiliated with the present-day Me-Wuk/Miwok.

In August of 1972, human remains representing, at minimum, one individual, were removed from site CA-TUO-0314 in Tuolumne County, CA. Human remains consisting of a fragment of a cervical vertebra and a rib were encountered by the excavators. In 2016, re-examination of the faunal assemblage by Reclamation, Mid-Pacific Region, professional staff identified additional human remains consisting of one vertebra fragment, one cervical vertebra, one rib, one first rib, and seventeen sternum fragments. The human remains represent one adult of indeterminate sex. No known individual was identified. No associated funerary objects are present. The vertical distribution of human remains within a single unit suggests the disturbed interment of a single individual. The bulk of the site CA-TUO-0314 artifact inventory consists of historic artifacts and suggest the possibility that the historic component of the site was accumulated through aboriginal activities. The artifacts are concentrated on the surface and upper levels, but occur in decreasing frequency all the way to the base of the deposit. Based on the artifact and contextual evidence, both Johnson (1973:79) and Moratto et al. (1988:193-194) estimate a brief-but-intensive occupation during the Gold Rush period. The preponderance of the available evidence indicates that the human remains are culturally affiliated with the present-day Me-Wuk/Miwok.

In August of 1972, human remains representing, at minimum, one individual, were removed from site CA-TUO-0307 in Tuolumne County, CA. The human remains consist of a fragment of a right femoral head and a nearly-complete left third metacarpal and represent one adult of indeterminate sex. No known individual was identified. No associated funerary objects are present. The small size of the site CA-TUO-0307 artifact inventory precludes any precise temporal placement, but two artifacts in the collection are temporally diagnostic. A single Stockton Serrated projectile point suggests an occupation in the middle of the Late Prehistoric period (A.D. 700-1100). A single Type H1a Olivella bead is temporally diagnostic to the Early Mission period (A.D. 1770-1800). Additionally, relatively few historic artifacts were present at site CA-TUO-0307. Most artifacts were found in the upper excavation levels, and none exhibiting any evidence of aboriginal use and/or modification. This site falls within the aboriginal lands of the Me-Wuk (Heizer 1978:ix, 400). Taken together, these data indicate an occupation beginning sometime during the Late Prehistoric period, probably no earlier than approximately A.D. 1200-1300. The preponderance of the evidence suggests that the human remains are culturally affiliated with the present-day Me-Wuk.

The collection from sites CA-TUO-0313, CA-TUO-0314, and CA-TUO-0307 was made by University of California Field School, Davis, under the direction of Patti Johnson. Excavation of the sites was done in compliance with an agreement between the National Park Service and the Foundation for Archaeological Research, Phase IV, of the New Melones Reservoir Archaeological Project. In 1978, ownership of the New Melones Dam and Reservoir transferred to the Department of the Interior, who directed Reclamation, Mid-Pacific Region, to be responsible for its operation and maintenance. The archeological collections resulting from the construction project were also transferred to Reclamation, Mid-Pacific Region. In 2014, the collection was moved to the New Melones Curation Facility (NMCF) located near the New Melones Visitors Center, Tuolumne County, CA. No intact burials were recorded during the excavations.

Determinations Made by the Bureau of Reclamation, Mid-Pacific Region

Officials of the Bureau of Reclamation, Mid-Pacific Region, have determined that:

• Pursuant to 25 U.S.C. 3001(9), the human remains described in this notice represent the physical remains of a minimum of four individuals of Native American ancestry.

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American human remains and the Buena Vista Rancheria of Me-Wuk Indians; California Valley Miwok Tribe; Chicken Ranch Rancheria of Me-Wuk Indians; Ione Band of Miwok Indians; Jackson Rancheria of Me-Wuk Indians; Shingle Springs Band of Miwok Indians; Tuolumne Band of Me-Wuk Indians of the Tuolumne Rancheria of California; and Wilton Rancheria.

Additional Requestors and Disposition

Lineal descendants or representatives of any Indian Tribe or Native Hawaiian organization not identified in this notice that wish to request transfer of control of these human remains should submit a written request with information in support of the request to Melanie Ryan, NAGPRA Specialist/Physical Anthropologist, Bureau of Reclamation, Mid-Pacific Office, MP-153, 2800 Cottage Way, Sacramento, CA 95825, telephone (916) 978-5526, email emryan@usbr.gov, by October 23, 2017. After that date, if no additional requestors have come forward, transfer of control of the human remains and associated funerary objects to the Buena Vista Rancheria of Me-Wuk Indians; California Valley Miwok Tribe; Chicken Ranch Rancheria of Me-Wuk Indians; Ione Band of Miwok Indians; Jackson Rancheria of Me-Wuk Indians; Shingle Springs Band of Miwok Indians; Tuolumne Band of Me-Wuk Indians of the Tuolumne Rancheria of California; and Wilton Rancheria may proceed.

The Bureau of Reclamation, Mid-Pacific Region, is responsible for notifying The Invited and Consulted Tribes that this notice has been published.

Dated: August 1, 2017.
Melanie O'Brien,
Manager, National NAGPRA Program.

[FR Doc. 2017-20299 Filed 9-21-17; 8:45 am]

BILLING CODE 4312-52-P